DEPARTMENT OF ENERGY

Federal Energy Regulatory Commission

[Docket No. EL05-106-000]

Bonneville Power Administration PacifiCorp; Idaho Power Company; Notice of FERC Staff Attendance

May 24, 2005.

The Federal Energy Regulatory Commission (Commission) hereby gives notice that members of its staff will attend the Proposed Market and Operational Design technical conference and the Regional Representative Group meeting for Grid West on May 25, through May 27, 2005. The meetings will be held at the Portland Airport Sheraton Hotel, located at 8235 NE. Airport Way, Portland, OR 97220.

The meetings are sponsored by the above listed entities and the Regional Representatives Group of Grid West. The conference is open to the public; staff attendance is part of the Commission's ongoing outreach efforts. The meeting may discuss matters at issue in Docket No. EL05-106-000.

For further information, contact David Lengenfelder at david.lengenfelder@ferc.gov, or phone number 202-502-8351.

Magalie R. Salas,
Secretary.

[FR Doc. E5-2759 Filed 5-31-05; 8:45 am]

BILLING CODE 6717-01-P